DEPARTMENT OF JUSTICE

Antitrust Division

Notice Pursuant to the National Cooperative Research and Production Act of 1993—Rotorcraft Industry Technology Association

Notice is hereby given that, on January 13, 2003, pursuant to section 6(a) of the National Cooperative Research and Production Act of 1993, 15 U.S.C. 4301 et seq. (“the Act”), Rotorcraft Industry Technology Association (“RITA”) has filed written notifications simultaneously with the Attorney General and the Federal Trade Commission disclosing changes in its membership status. The notifications were filed for the purpose of extending the Act's provisions limiting the recovery of antitrust plaintiffs to actual damages under specified circumstances. Specifically, The Ohio State University College of Engineering, Columbus, OH has been added as an Associate Member of RITA. Also, University of California, Los Angeles, CA; Old Dominion University, Norfolk, VA; and Naval Postgraduate School, Monterey, CA have been dropped as Associate Members of RITA; and Rolls Royce Corporation (formerly Allison Engine Company), Indianapolis, IN has been dropped as a Supporting Member.

No other changes have been made in either the membership or planned activity of the group research project. Membership in this group research project remains open, and RITA intends to file additional written notification disclosing all changes in membership.

On September 28, 1995, RITA filed its original notification pursuant to section 6(a) of the Act. The Department of Justice published a notice in the Federal Register pursuant to section 6(b) of the Act on April 3, 1996 (61 FR 14817).

The last notification was filed with the Department on September 27, 2002. A notice was published in the Federal Register pursuant to section 6(b) of the Act on November 6, 2002 (67 FR 67649).

Constance K. Robinson,
Director of Operations, Antitrust Division.

[FR Doc. 03-3293 Filed 2-10-03; 8:45 am]

BILLING CODE 4410-01-M